DEPARTMENT OF AGRICULTURE

Submission for OMB Review; Comment Request

June 10, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC, New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 15, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Pecans Grown in the States of Alabama, Arkansas, Arizona, California, Florida, Georgia, Kansas, Louisiana, Missouri, Mississippi, North Carolina, New Mexico, Oklahoma, South Carolina, and Texas.

OMB Control Number: 0581-0291.

Summary of Collection: Under the Agricultural Marketing Agreement Act of 1937 (7 U.S.C. 601 et seq.; Act), the U.S. Department of Agriculture (USDA) has authority to promulgate and oversee marketing orders to regulate the handling of an agricultural commodity placed in interstate or foreign commerce. Marketing orders are proposed and voted in by producers and apply to handlers who place the product in commercial channels.

Need and Use of the Information: The rules and regulations authorize USDA and the Council to collect certain information from producers and handlers on the volume of pecans moving through their operations and into commercial channels. Collection of this information enables the Council to calculate assessments owed by each handler. Gaining the authority to collect nationwide data on pecan inventories, shipments and foreign deliveries and acquisitions was the primary reason the U.S. pecan industry approached AMS for a Federal marketing order.

Description of Respondents: Business or other for profit.

Number of Respondents: 2,750.

Frequency of Responses: Reporting: On occasion; Other (when forms are requested).

Total Burden Hours: 2,931.

Title: National Sheep Industry Improvement Center.

OMB Control Number: 0581-0263.

Summary of Collection: The National Sheep Industry Improvement Center (NSIIC) was initially authorized under the Consolidated Farm and Rural Development Act (Act) (Pub. L. 104-127). The initial legislation included a provision that privatized the NSIIC 10 years after its ratification. Subsequently, the NSIIC was privatized on September 30, 1996. In 2008, the NSIIC was re-established under Title XI of the Food, Conservation, and Energy Act of 2008 also known as the 2008 Farm Bill. Section 11009 of the 2008 Farm Bill repealed the requirement in section 375(e)(6) of the Act to privatize the NSIIC. The management of the NSIIC is vested in a Board of Directors (Board) that is appointed by the Secretary of Agriculture. The primary objective of the NSIIC is to assist U.S. sheep and goat industries by strengthening and enhancing the production and marketing of sheep, goats, and their products in the United States.

Need and Use of the Information: Information is collected using the forms “Nominations for Appointments;” “Background Information, AD-755;” and “Nominee's Agreement to Serve.” AMS accepts nominations for membership on the Board from national organizations that (1) consist primarily of active sheep or goat producers in the United States and (2) have the primary interest of sheep or goat production in the United States. The information collection requirements in the request are essential to carry out the intent of the enabling legislation.

Description of Respondents: National Organizations consisting primarily of active sheep or goat producers in the U.S.

Number of Respondents: 10.

Frequency of Responses: Reporting: Annually.

Total Burden Hours: 6.

Kimble Brown,
Departmental Information Collection Clearance Officer.

[FR Doc. 2019-12485 Filed 6-12-19; 8:45 am]

BILLING CODE 3410-02-P